NEIGHBORHOOD REINVESTMENT CORPORATION

Sunshine Act Meetings

TIME AND DATE: 2:00 p.m., Thursday, October 17, 2024.

PLACE: via ZOOM.

STATUS: Parts of this meeting will be open to the public. The rest of the meeting will be closed to the public.

MATTERS TO BE CONSIDERED:

Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Sunshine Act Approval of Executive (Closed) Session

III. Executive Session: CEO Report

IV. Executive Session: CFO Report

V. Executive Session: General Counsel Report

VI. Executive Session: CIO Report

VII. Executive Session: Officer Performance Metrics

VIII. Action Item: Approval of August 13 Audit Committee Meeting and August 15 Regular Board Meeting Minutes

IX. Action Item: 2024 Delegation of Authority Revision

X. Action Item: Acceptance of HUD Comprehensive Housing Counseling Grant Award

XI. Discussion Item: FY2025-2027 Strategic Plan

XII. Discussion Item: Revision to the Corporate Bylaws—Tenure Protection of Chief Audit Executive Position

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2024-23702 Filed 10-9-24; 11:15 am]

BILLING CODE 7570-01-P